FEDERAL COMMUNICATIONS COMMISSION

47 CFR Part 73

[DA 02-2508; MB Docket No. 02-105; RM-10396]

Radio Broadcasting Services; Boonville, CA

AGENCY: Federal Communications Commission.

ACTION: Final rule.

SUMMARY: In response to a Notice of Proposed Rule Making, 67 FR 39935 (June 11, 2002), this document substitutes Channel 300A for the vacant Channel 241A allotment at Boonville, California, thus allowing Station KRSH(FM) to increase its power to maximum Class A (equivalent) FM facilities on Channel 240A at Healdsburg, California. The coordinates for Channel 300A at Boonville are 39-01-33 North Latitude and 123-29-33 West Longitude, with a site restriction of 11.2 kilometers (7 miles) west of Boonville.

DATES: Effective November 19, 2002.

FOR FURTHER INFORMATION CONTACT: R. Barthen Gorman, Media Bureau, (202) 418-2180.

SUPPLEMENTARY INFORMATION: This is a synopsis of the Commission's Report and Order, MB Docket No. 02-105, adopted September 25, 2002, and released October 4, 2002. The full text of this Commission decision is available for inspection and copying during normal business hours in the FCC's Reference Information Center at Portals II, 445 12th Street, SW, Room CY-A257, Washington, DC 20554. The document may also be purchased from the Commission's duplicating contractor, Qualex International, Portals II, 445 12th Street, SW, Room CY-B402, Washington, DC 20554, telephone 202 863-2893. facsimile 202 863-2898, or via e-mail: qualexint@aol.com.

List of Subjects in 47 CFR Part 73

Radio, Radio broadcasting.

Part 73 of Title 47 of the Code of Federal Regulations is amended as follows:

PART 73—RADIO BROADCAST SERVICES

1. The authority citation for part 73 continues to read as follows:

Authority: 47 U.S.C. 154, 303, 334, and 336.

§ 73.202 [Amended]

2. Section 73.202(b), the Table of FM Allotments under California, is amended by adding Channel 300A at Boonville, and removing Channel 241A at Boonville.

Federal Communications Commission.
John A. Karousos,
Assistant Chief, Audio Division, Media Bureau.

[FR Doc. 02-26775 Filed 10-21-02; 8:45 am]

BILLING CODE 6712-01-P